DEPARTMENT OF EDUCATION

Application Deadline for Fiscal Year 2026 New Awards; Small, Rural School Achievement Program

AGENCY: Office of Elementary and Secondary Education, Department of Education.

ACTION: Notice.

SUMMARY: Under the Small, Rural School Achievement (SRSA) program, the U.S. Department of Education (Department) awards grants on a formula basis to eligible local educational agencies (LEAs) to address the unique needs of rural school districts. In this notice, we establish the deadline and describe the application process for the fiscal year (FY) 2026 SRSA grant.

All LEAs eligible for FY 2026 SRSA funds must apply electronically via the process described in this notice by the deadline listed below.

DATES:

Applications Available: April 13, 2026.

Deadline for Transmittal of Applications: May 18, 2026.

Application Technical Assistance: The Department will announce via email application technical assistance opportunities for applicants when the application becomes available.

FOR FURTHER INFORMATION CONTACT: Victoria Hammer, Rural Education Achievement Program (REAP), U.S. Department of Education, 400 Maryland Avenue SW, Washington, DC 20202. Telephone: (202) 401-0039. Email: reap@ed.gov.

If you are deaf, hard of hearing, or have a speech disability and wish to access telecommunications relay services, please dial 7-1-1.

SUPPLEMENTARY INFORMATION:

Assistance Listing Number: 84.358A.

OMB Control Number: 1810-0646.

I. Award Information

Type of Award: Formula grant.

Available Funds: The President's FY 2026 budget proposed consolidating SRSA into a new, Simplified Funding Program. We are inviting applications to allow enough time to complete the grant process if Congress appropriates funds for this program.

Estimated Range of Awards: $100-$80,000.

Note: The amount of an LEA's award depends on the number and makeup of eligible LEAs that complete the SRSA application, and the amount Congress appropriates for the program. Some eligible LEAs may receive an SRSA allocation of $0 due to the statutory funding formula and, in that case, will not be invited to submit an application.

Estimated Number of Awards: 4,300.

II. Eligibility Information

Eligibility: For FY 2026, an LEA (including a public charter school that meets the definition of LEA in section 8101(30) of the ESEA) is eligible for an award under the SRSA program if it meets both of the criteria below:

(a) The total number of students in average daily attendance at all of the schools served by the LEA is fewer than 600, or each county in which a school served by the LEA is located has a total population density of fewer than 10 persons per square mile; and

(b) All of the schools served by the LEA are designated with a school locale code of 41, 42, or 43 by the Department's National Center for Education Statistics (NCES), or the Secretary has determined, based on a demonstration by the LEA and concurrence of the State educational agency, that the LEA is located in an area defined as rural by a governmental agency of the State.

The Department provides an eligibility spreadsheet listing each LEA eligible to apply for FY 2026 SRSA funds. The spreadsheet will be available on the Department's website at: https://www.ed.gov/grants-and-programs/formula-grants/rural-and-insular-areas/small-rural-school-achievement-program#srsa-eligibility.

If an LEA on the Department's spreadsheet of LEAs eligible to apply for an FY 2026 SRSA award will close prior to the 2026-2027 school year, that LEA is not eligible to receive an FY 2026 SRSA award and should not apply.

Note: The “Choice of Participation” provision under section 5225 of the ESEA gives an LEA eligible for both SRSA and the Rural and Low-Income School (RLIS) program, which is authorized under title V, part B, subpart 2 of the ESEA, the option to participate in either the SRSA program or the RLIS program. 20 U.S.C. 7351d. An LEA eligible for both SRSA and RLIS is henceforth referred to as a “dual-eligible LEA.” The Department will consider a dual-eligible LEA's SRSA application as the LEA's indication that it chooses to receive SRSA funds instead of RLIS funds.

III. Application Information

Eligible LEAs Required to Submit an Application

Each LEA interested in and eligible to receive an SRSA award must submit an SRSA application regardless of whether the LEA received an award or submitted an application in a previous year. For example, if a rural community has two distinct LEAs—one composed of its elementary school(s) and one composed of its high school(s)—each distinct LEA must submit its own SRSA application. This requirement applies to all eligible LEAs, including each dual-eligible LEA that chooses to participate in the SRSA program instead of the RLIS program and each SRSA-eligible LEA that is a member of an educational service agency (ESA) that does not receive SRSA funds on the LEA's behalf. In the case of an SRSA-eligible LEA that is a member of an SRSA-eligible ESA, the LEA and ESA must coordinate directly with each other to determine which entity will submit an SRSA application on the LEA's behalf, as both entities may not apply for or receive SRSA funds for the LEA.

Notice of UEI Requirement

As required by 2 CFR part 25, Appendix A, entities receiving funds from the Federal government, including SRSA-eligible LEAs that apply for an SRSA award, must maintain current entity information in the System for Award Management (SAM). SAM is the Federal government's primary registrant database and is managed by the General Services Administration, not the Department. The UEI, a 12-character alphanumeric code, is the primary means of entity identification for Federal awards. An LEA without a UEI may not receive an SRSA award until it has obtained and registered a UEI.

Electronic Submission of Applications Using Connect.gov

The Department will send an email with a unique application link to each LEA that is eligible and estimated to receive a positive allocation (i.e., an estimated amount greater than $0.00) for an FY 2026 SRSA grant award. The email will include detailed instructions for completing the electronic application. The application is estimated to take 30 minutes to complete.

An eligible LEA must submit an electronic application via Connect.gov to be assured of receiving an FY 2026 SRSA grant award. The Department may consider applications submitted after the deadline to the extent practicable and contingent upon the availability of funding.

Application Deadline Date Extension in Case of Technical Issues

If you are unable to submit an application by the due date, because of technical issues, contact the Department by emailing reap@ed.gov within five business days of the application deadline and provide an explanation of the technical problem you experienced. The late application will be accepted as having met the deadline if the Department can confirm that a technical issue occurred with the Connect.gov system that affected your ability to submit the application by the deadline. As noted above, if you submit the application after the deadline and the late submission is not due to a technical issue about which you have notified the Department, the Department may consider your application to the extent practicable and contingent upon the availability of funding.

V. Accessibility Information and Program Authority

Accessible Format: Upon request to the REAP Group Leader (using the email or phone number provided in the FOR FURTHER INFORMATION CONTACT section above), individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at https://www.govinfo.gov/. At this site you can view this document, as well as all other Department documents published in the Federal Register, in text or Portable Document Format (PDF). To use PDF, you must have Adobe Acrobat Reader, which is available free at the site.

Program Authority: Sections 5211-5212 of the ESEA, 20 U.S.C. 7345-7345a.

Kirsten Baesler,
Assistant Secretary, Office of Elementary and Secondary Education.

[FR Doc. 2026-02186 Filed 2-2-26; 8:45 am]

BILLING CODE 4000-01-P